DEPARTMENT OF TRANSPORTATION

Pipeline and Hazardous Materials Safety Administration

[Docket No. PHMSA-2009-0349]

Pipeline Safety: Operator Qualification (OQ) Program Modifications

AGENCY: Pipeline and Hazardous Materials Safety Administration (PHMSA); DOT.

ACTION: Notice; Issuance of Advisory Bulletin.

SUMMARY: The Pipeline and Hazardous Materials Safety Administration (PHMSA) is issuing this Advisory Bulletin to inform pipeline operators about the standardized notification process for operator qualification (OQ) plan transmittal from the operator to PHMSA. This Advisory Bulletin also informs operators about the addition to PHMSA's glossary of definitions of the terms “Observation of on-the-job performance” as applicable to determining employee qualification and “Significant” as applicable to OQ program modifications requiring notification. Finally, it makes other miscellaneous clarifications to assist operators in complying with OQ program requirements.

FOR FURTHER INFORMATION CONTACT: Warren Miller by phone at 816-329-3815 or by e-mail at warren.miller@dot.gov regarding the subject matter of this Advisory Bulletin, or the Dockets Unit, (202) 366-4453, for copies of this Advisory Bulletin or other material in the docket. All materials in this docket may be accessed electronically at http://dma.dot.gov. General information about the PHMSA Office of Pipeline Safety (OPS) can be obtained by accessing OPS's Internet home page at http://www.phmsa.dot.gov/pipeline.

SUPPLEMENTARY INFORMATION:

I. Background

On March 3, 2005, PHMSA issued a Direct Final Rule (70 FR 10332) on qualification of pipeline personnel which amended the requirements for pipeline operators to develop and maintain a written qualification program for individuals performing covered tasks on pipeline facilities. In response to implementation issues and questions that arose after the rule was published, PHMSA has previously published Advisory Bulletins regarding OQ programs. These bulletins remain relevant:

• ADB-04-05, Operator Qualification Requirements, published November 26, 2004.

• ADB-06-01, Notice to Operators of Natural Gas and Hazardous Liquid Pipelines to Integrate Operator Qualification Regulations into Excavation Activities, published January 17, 2006.

Based on input from State pipeline safety program managers and the PHMSA Federal and State OQ Team, PHMSA has developed a standardized process for OQ plan transmittal from the operator to PHMSA. The team also developed definitions of the terms “Observation of on-the-job performance” as applicable to determining employee qualification and “Significant” as applicable to OQ program modifications requiring notification. PHMSA has added these definitions to its glossary of terms. Finally, the team identified other miscellaneous clarifications to assist operators in complying with OQ program requirements.

II. Advisory Bulletin ADB-09-03

To: Owners and Operators of Hazardous Liquid and Natural Gas Pipeline Systems.

Subject: Operator Qualification Programs.

Advisory: This Advisory Bulletin informs pipeline operators about the standardized notification process for operator qualification (OQ) plan transmittal from the operator to PHMSA. This Advisory Bulletin also informs operators about the addition to PHMSA's glossary of definitions of the terms “Observation of on-the-job performance” as applicable to determining employee qualification and “Significant” as applicable to OQ program modifications requiring notification. Finally, it makes other miscellaneous clarifications regarding OQ programs.

Standardized Plan Transmittal Process

Operators should send notifications of significant modification of an OQ Program to the OPS Information Resource Manager by e-mail at InformationResourcesManager@phmsa.dot.gov or mail to U.S. Department of Transportation, Pipeline and Hazardous Materials Safety Administration, Office of Pipeline Safety, Information Resources Manager, 1200 New Jersey Avenue, SE., East Building, 2nd Floor (PHP-10), Room E22-321, Washington, DC 20590.

Note: Operators subject to regulation by State agencies are required to send OQ notifications directly to each State agency.

Regardless of the delivery method, each notification to PHMSA should include:

1. OPID(s), operator name(s), HQ address. Name of individual submitting notification, Data/email/phone number, Commodity (gas/liquid/both), PHMSA Region(s) where pipeline(s) operate, and names of respective facilities or pipeline systems where changes apply.

2. Complete Plan accompanied by revision/change log and effective date of change(s). The plan should be notated such that changed areas of the plan can be readily identified. Employee-specific information (i.e., social security numbers) and testing material are not needed.

Definitions

With respect to the use of “Observation of on-the-job performance” as a means of determining employee qualification, PHMSA has added a definition of this term to its glossary of terms on the PHMSA Primis OQ Web site at http://primis.phmsa.dot.gov/oq/glossary.htm. PHMSA also added a definition of the word “significant” to the glossary as it applies to modifications to an operator's OQ program. The definitions read as follows:

Observation of On-The-Job Performance

1. Observation without interaction during on-the-job performance does not provide an adequate measurement of the knowledge and skills of the individual;

2. PHMSA has determined that there are no covered tasks to date where observation of on-the-job performance is an adequate, sole method for examining or testing qualification; and

3. Observation of on-the-job performance does not measure the individual's ability to recognize and react to abnormal operation conditions (AOCs).

Significant

As applicable to OQ program modifications, significant includes but is not limited to: increasing evaluation intervals, increasing span of control ratios, eliminating covered tasks, mergers and/or acquisition changes, evaluation method changes such as written vs. observation, and wholesale changes made to OQ plan.

Miscellaneous Clarifications

Finally, in order to clarify the requirements of 49 CFR 192.605(a) and 195.402(a) as they apply to OQ and written OQ program reviews, the following information is provided:

1. The OQ process and procedures are an important part of an operator's manual of written procedures for conducting normal operations and maintenance activities and handling abnormal operations and emergencies (Operations and Maintenance (O&M) Plan).

a. Operators' review of their OQ Plan in accordance with §§ 192.605(a) and 195.402(a) should be conducted in connection with their reviews of their O&M Plans every 15 months, but at least once each calendar year.

b. Operators' “periodic review of work” being done in accordance with §§ 192.605(b)(8) and 195.402(c)(13), should include evaluation of OQ procedure effectiveness to identify where corrective actions are needed to address deficiencies. Examples of issues that need to be reviewed to determine the effectiveness of an OQ Program:

• Adequacy of training for specific covered task(s),

• Adequacy of evaluation(s) to determine if individual has required knowledge, skills, and abilities,

• Adequacy of individual to recognize AOC(s), and

• Adequacy of individual to take appropriate action after AOC.

2. Operators should ensure the record it maintains of its annual O&M review, as required by §§ 192.605(a) and 195.402(a), specifically notes that the OQ Plan was included in the review. The record should include the name of reviewer and date(s) of review. Alternatively, the operator's review procedures may clearly indicate which procedures are to be evaluated during the annual review.

3. PHMSA will inspect annual review records to assure OQ Plans are being evaluated and may take compliance action where non-compliance is found.

Issued in Washington, DC on November 25, 2009.
Byron Coy,
Acting Associate Administrator for Pipeline Safety.

[FR Doc. E9-29073 Filed 12-4-09; 8:45 am]

BILLING CODE 4910-60-P